DEPARTMENT OF TRANSPORTATION

Federal Aviation Administration

14 CFR Part 73

[Docket No. FAA-2001-10286; Airspace Docket No. 01-AEA-11]

RIN 2120-AA66

Proposed Amendment of Restricted Area R-5201, Fort Drum, NY

AGENCY: Federal Aviation Administration (FAA), DOT.

ACTION: Notice of proposed rulemaking.

SUMMARY: This notice proposes to amend the designated altitudes for Restricted Area R-5201 (R-5201), Fort Drum, NY, by designating the ceiling of the airspace at 23,000 feet mean sea level (MSL) on a year-round basis. Currently, the upper altitude limit for the restricted area changes between 23,000 feet MSL from April 1 through September 30; and 20,000 feet MSL, from October 1 through March 31. Increased training requirements at Fort Drum have resulted in a regular need for restricted airspace up to 23,000 feet MSL throughout the year. This proposed modification would not change the current boundaries, time of designation, or activities conducted in R-5201.

DATES: Comments must be received on or before December 3, 2001.

ADDRESSES: Send comments on this proposal to the Docket Management System, U.S. Department of Transportation, Room Plaza 401, 400 Seventh Street, SW., Washington, DC 20590-0001. You must identify the docket numbers FAA-2001-10286/Airspace Docket No. 01-AEA-11 at the beginning of your comments.

You may also submit comments through the Internet to http://dms.dot.gov. You may review the public docket containing the proposal, any comments received, and any final disposition in person in the Dockets Office between 9 a.m. and 5 p.m., Monday through Friday, except Federal holidays. The Dockets Office (telephone 1-800-647-5527) is on the plaza level of the NASSIF Building at the Department of Transportation at the above address.

An informal docket may also be examined during normal business hours at the office of the Regional Air Traffic Division, Federal Aviation Administration, 1 Aviation Plaza, Jamaica, NY 11434.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commenters wishing the FAA to acknowledge receipt of their comments on this notice must submit with those comments a self-addressed, stamped postcard on which the following statement is made: “Comments to Docket Nos. FAA-2001-10286/Airspace Docket No. 01-AEA-11.” The postcard will be date/time stamped and returned to the commenter. Send comments on environmental and land use aspects to: Moira D. Keane, Environmental Specialist, FAA, Eastern Regional Air Traffic Division, 1 Aviation Plaza, Jamaica, NY 11434. All communications received on or before the specified closing date for comments will be considered before taking action on the proposed rule. The proposal contained in this notice may be changed in light of comments received. All comments submitted will be available for examination in the Rules Docket both before and after the closing date for comments. A report summarizing each substantive public contact with FAA personnel concerned with this rulemaking will be filed in the docket.

Availability of NPRM's

An electronic copy of this document may be downloaded from the FAA regulations section of the Fedworld electronic bulletin board service (telephone: 703-321-3339) or the Federal Register's electronic bulletin board service (telephone: 202-512-1661) using a modem and suitable communications software.

Internet users may reach the FAA's web page at http://www.faa.gov or the Federal Register's web page at http://www.access.gpo.gov/nara for access to recently published rulemaking documents.

Any person may also obtain a copy of this NPRM by submitting a request to the FAA, Office of Air Traffic Airspace Management, ATA-400, 800 Independence Avenue, SW., Washington, DC 20591, or by calling (202) 267-8783. Communications must identify both docket numbers of this NPRM. Persons interested in being placed on a mailing list for future NPRM's should call the FAA, Office of Rulemaking, (202) 267-9677, to request a copy of Advisory Circular No. 11-2A, which describes the application procedure.

Background

Restricted airspace at Fort Drum, NY, dates back to at least the 1960's. The current designated altitudes for the restricted area were based on past use of the installation as a National Guard facility which had primarily seasonal training requirements. The higher altitude designated for the period April 1 through September 30 reflected increased use of the restricted area by reserve components during annual summer training periods. In 1985, an U.S. Army unit, the 10th Mountain Division, was activated at Fort Drum with a full time, year-round training requirement. In addition, over the years, use of R-5201 has increased by U.S. Air Force units. The reduction of R-5201's upper limit to 20,000 feet MSL during the period October 1 through March 31 has increasingly become a limiting factor to the year-round training needs at Fort Drum.

The Proposal

The FAA is considering an amendment to 14 CFR part 73 to amend the designated altitudes of R-5201 Fort Drum, NY. Specifically, this action proposes to change the designated altitudes for R-5201 from “Surface to 23,000 feet MSL, April 1 through September 30; surface to 20,000 feet MSL, October 1 through March 31” to “Surface to 23,000 feet MSL.” This proposal would delete the seasonal changes to the upper altitude limit and establish 23,000 feet MSL as the upper altitude limit on a year-round basis. The 20,000 feet MSL limit adversely affects training at Fort Drum and requires units to alter their training profiles when 23,000 feet is not available. This is disruptive to training continuity and precludes the most cost-effective accomplishment of training activities. The U.S. Army has proposed this modification to better accommodate existing and forecast training requirements at Fort Drum. This action would not change the current boundaries, time of designation, or activities conducted within R-5201. Thus, as under the current rule, the restricted area's designated altitude remains 23,000 feet MSL at all times between April 1 and September 30. Under the proposed rule, the restricted area's designated altitude would change from 20,000 feet MSL to 23,000 feet MSL for the October 1 to March 31 period. Because the time of designation is not being amended, between October 1 and March 31, the restricted area would continue to be in effect only between 0600 and 1800 local time, unless a Notice to Airmen is issued 48 hours in advance; and it would continue to be in effect continuously between April 1 and September 30.

Section 73.52 of 14 CFR part 73 was republished in FAA Order 7400.8J, dated September 20, 2001.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

This proposal will be subjected to the appropriate environmental analysis in accordance with FAA Order 1050.1D, Policies and Procedures for Considering Environmental Impacts, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.52 [Amended]

2. § 73.52 is amended as follows:

* * * * *

R-5201 Fort Drum, NY [Amended]

By removing “Designated altitudes. Surface to 23,000 feet MSL, April 1 though September 30; surface to 20,000 feet MSL, October 1 through March 31” and substituting “Designated altitudes. Surface to 23,000 feet MSL” in its place.

* * * * *

Issued in Washington, DC on October 12, 2001.
Reginald C. Matthews,
Manager, Airspace and Rules Division.

[FR Doc. 01-26462 Filed 10-18-01; 8:45 am]

BILLING CODE 4910-13-P